DEPARTMENT OF COMMERCE

National Oceanic and Atmospheric Administration

50 CFR Part 648

[Docket No. 0907301205-0289-02]

RIN 0648-XA767

Fisheries of the Northeastern United States; Atlantic Herring Fishery; Adjustment to the Atlantic Herring Management Area 1A Sub-Annual Catch Limit

AGENCY: National Marine Fisheries Service (NMFS), National Oceanic and Atmospheric Administration (NOAA), Commerce.

ACTION: Temporary rule; inseason adjustment.

SUMMARY: NMFS adjusts the 2011 Fishing Year sub-annual catch limit for Atlantic Herring Management Area 1A due to an under-harvest in the New Brunswick weir fishery. This action complies with the 2010-2012 specifications and management measures for the Atlantic Herring Fishery Management Plan.

DATES: Effective November 1, 2011, through December 31, 2011.

FOR FURTHER INFORMATION CONTACT: Lindsey Feldman, Fishery Management Specialist, 978-675-2179, Fax 978-281-9135.

SUPPLEMENTARY INFORMATION: Regulations governing the Atlantic herring fishery are found at 50 CFR part 648. The regulations require annual specification of the overfishing limit, acceptable biological catch (ABC), annual catch limit (ACL), optimum yield (OY), domestic harvest and processing, U.S. at-sea processing, border transfer and sub-ACLs for each management area. The 2011 Domestic Annual Harvest is 91,200 metric tons (mt); the 2011 sub-ACL allocated to Area 1A is 26,546 mt and 0 mt of the sub-ACL is set aside for research (75 FR 48874, August 12, 2010). Due to the variability of Canadian catch in the New Brunswick weir fishery, a portion of the buffer between ABC and OY (the buffer to account for Canadian catch) is allocated to Area 1A, provided New Brunswick weir landings are lower than the amount specified in the buffer.

The NMFS Regional Administrator is required to monitor the fishery landings in the New Brunswick weir fishery each year. If the New Brunswick weir fishery landings through October 15 are less than 9,000 mt, then 3,000 mt of the weir fishery allocation is added to the Area 1A sub-ACL in November of the same year. When such a determination is made, NMFS is required to publish a notification in the Federal Register to adjust the Area 1A sub-ACL for the remainder of the fishing year (FY).

The Regional Administrator has determined, based on the best available information, that the New Brunswick weir fishery landings for FY 2011 through October 15, 2011, were 3,601 mt. Therefore, effective November 1, 2011, 3,000 mt will be allocated to the Area 1A sub-ACL, increasing the FY 2011 Area 1A sub-ACL from 26,546 mt to 29,546 mt. This allocation of 3,000 mt to Area 1A will be taken into consideration when NMFS projects that catch will reach 95 percent of the Area 1A sub-ACL.

Classification

This action is required by 50 CFR part 648 and is exempt from review under Executive Order 12866.

The Assistant Administrator for Fisheries, NOAA (AA), finds good cause pursuant to 5 U.S.C. 553(b)(B) to waive prior notice and the opportunity for public comment because it is impracticable and contrary to the public interest. This action increases the sub-ACL for Area 1A by 3,000 mt (from 26,546 mt to 29,546 mt) through December 31, 2011. The regulations at § 648.201(f) require such action to help mitigate some of the negative economic effects associated with the recent reduction in the Area 1A sub-ACL (40 percent less than in 2009). The herring fishery extends from January 1 to December 31. Data indicate the New Brunswick weir fishery landed 3,601 mt through October 15, 2011. There is a limited amount of time between October 15 (when the New Brunswick weir fishery slows for the year) and the end of the U.S. herring fishing year on December 31. If implementation of this Area 1A sub-ACL increase is delayed to solicit prior public comment, the increase may not be effective prior to the end of the 2011 fishing year and the 3,000 mt allocation would not be available for harvest. Additionally, the availability of herring in Area 1A is seasonal. As the end of the fishing year approaches, herring can disperse or move out of Area 1A, and/or the approach of winter weather can hinder fishery access to herring in Area 1A. The best available information indicates that current catch is close to 95 percent of the Area 1A sub-ACL. If implementation of this increase is delayed to solicit prior public comment, herring may no longer be available to the fishery for harvest in Area 1A, thereby undermining the intended economic benefits associated with this action. NMFS further finds, pursuant to 5 U.S.C 553(d)(3), good cause to waive the 30-day delayed effectiveness period for the reasons stated above.

Authority: 16 U.S.C. 1801 et seq.

Dated: October 20, 2011.
Emily H. Menashes,
Acting Director, Office of Sustainable Fisheries, National Marine Fisheries Service.

[FR Doc. 2011-27593 Filed 10-24-11; 8:45 am]

BILLING CODE 3510-22-P